DEPARTMENT OF JUSTICE

Antitrust Division

Notice Pursuant to the National Cooperative Research and Production Act of 1993—The Customer Experience Hub

Notice is hereby given that, on July 3, 2024, pursuant to section 6(a) of the National Cooperative Research and Production Act of 1993, 15 U.S.C. 4301 et seq. (“the Act”), The Customer Experience Hub (“CX Hub”) has filed written notifications simultaneously with the Attorney General and the Federal Trade Commission disclosing changes in its membership. The notifications were filed for the purpose of extending the Act's provisions limiting the recovery of antitrust plaintiffs to actual damages under specified circumstances. Specifically, Advanced Functional Fabrics of America, Inc., Cambridge, MA; Alacura Medical Transport Management, Inc., Dallas, TX; Amazon Web Services, Inc., Seattle, WA; AMPEL LLC dba AMPEL BioSolutions LLC, Charlottesville, VA; Aptima, Inc., Woburn, MA; Avsana Labs, Inc., Dallas, TX; Axiom Space, Inc., Houston, TX; Be Well Texas, San Antonio, TX; BetterAge, Sunnyside, NY; Bexar County Hospital District dba University Health System, San Antonio, TX; BioCytics, Inc., Huntersville, NC; Boyd Biomedical, Inc., Lee, MA; Carolina BioOncology Institute PLLC, Huntersville, NC; Clinicals Global Pty Ltd., Fortitude Valley, AUSTRALIA; Cure Experience Service LLC, New York, NY; DesignPlex Biomedical LLC, Fort Worth, TX; Detroit Association of Black Organizations, Inc. (DABO), Detroit, MI; DiversiTrials, Florence, KY; Dynocardia, Inc., Cambridge, MA; Echo Investment Capital, Oklahoma City, OK; Elarex, Inc., Burlington, CANADA; Emagine Solutions Technology LLC, Tucson, AZ; Essex Management LLC, Rockville, MD; Esvyda!, Inc., Campbell, CA; Eztia Corp., Diamond Bar, CA; Focused Ultrasound Foundation, Charlottesville, VA; Galen Data, Inc., Houston, TX; GE Healthcare Technology & Innovation Center, Niskayuna, NY; Gryphon Scientific LLC, Takoma Park, MD; IA Collaborative Management Services LLC, Chicago, IL; Implementation Science Center for Cancer Control Equity (ISCCCE), Boston, MA; InnoTech Precision Medicine, Inc., Lowell, MA; Inter Astra Institute, McLean, VA; Maternal Newborn Health Innovations, PBC (MNHI), Parsippany, NJ; Maximus, Inc., McLean, VA; MediMergent LLC, Rockville, MD; Metronomic, Inc., Chantilly, VA; Mid-Atlantic Permanente Medical Group, P.C., Rockville, MD; MitoChem Therapeutics, Inc., Charleston, SC; Namida Lab, Inc., Fayetteville, AR; National Health Council, Inc., Washington, DC; NKILT Therapeutics, Inc., Springfield, NJ; Northeastern University, Boston, MA; OnKai, Inc., Boca Raton, FL; Parallax Advanced Research Corp., Beavercreek, OH; Pediatric Moonshot, Marina del Rey, CA; Proov, Erie, CO; Quorum Innovations LLC, Sarasota, FL; SANO Healthcare Consultants LLC, Ontario, CA; SEQSTER PDM, Inc., San Diego, CA; Spring Discovery, Inc., San Carlos, CA; Starling Medical, Inc., Houston, TX; SubjectWell, Inc., Austin, TX; Synthesize Consulting Group, Woodbridge, CANADA; Texas A&M University-Corpus Christi, Corpus Christi, TX; The Emmes Company LLC, Rockville, MD; The Termeer Foundation, Boston, MA; The University of Texas Health Science Center at Tyler, Tyler, TX; Touch4Life, Clarksville, MD; Triple Ring Technologies, Inc., Newark, CA; University of Connecticut Health Center, Farmington, CT; University of Illinois, Chicago, IL; University of Illinois Urbana-Champaign, Urbana, IL; University of Missouri System, Columbia, MO; University of Texas Health Science Center at Houston, Houston, TX; University of Texas Medical Branch at Galveston, Galveston, TX; University of Texas Southwestern Medical Center, Dallas, TX; Washington Global Health Alliance, Redmond, WA; Washington University in St. Louis, St. Louis, MO; and Wiliam Marsh Rice University, Houston, TX, have been added as parties to this venture.

No other changes have been made in either the membership or planned activity of the group research project. Membership in this group research project remains open, and CX Hub intends to file additional written notifications disclosing all changes in membership.

On January 11, 2024, CX Hub filed its original notification pursuant to section 6(a) of the Act. The Department of Justice published a notice in the Federal Register pursuant to section 6(b) of the Act on April 16, 2024 (89 FR 26929).

The last notification was filed with the Department on April 17, 2024. A notice was published in the Federal Register pursuant to section 6(b) of the Act on June 21, 2024 (89 FR 52093).

Suzanne Morris,
Deputy Director Civil Enforcement Operations, Antitrust Division.

[FR Doc. 2024-22069 Filed 9-25-24; 8:45 am]

BILLING CODE P